DEPARTMENT OF LABOR

Occupational Safety and Health Administration

29 CFR Part 1904

[Docket Number: OSHA-2015-0006]

RIN 1218-AC84

Clarification of Employer's Continuing Obligation To Make and Maintain an Accurate Record of Each Recordable Injury and Illness; Extension of Comment Period

AGENCY: Occupational Safety and Health Administration (OSHA), Labor.

ACTION: Notice of proposed rule; extension of comment period.

SUMMARY: The Occupational Safety and Health Administration (OSHA) is extending the deadline for submitting comments on the proposed rule: Clarification of Employer's Continuing Obligation To Make and Maintain an Accurate Record of Each Recordable Injury and Illness.

DATES: The comment due date for the proposed rule published in the Federal Register on July 29, 2015 (80 FR 45116) is extended. Comments must be submitted (postmarked, sent, or received) by October 28, 2015.

ADDRESSES: Submit comments and additional material using any of the following methods:

Electronically. You may submit comments and attachments electronically at http://www.regulations.gov, which is the Federal e-Rulemaking Portal. Follow the instructions on the Web site for making electronic submissions.

Facsimile. If your submission, including attachments, does not exceed ten pages, you may fax it to the OSHA Docket Office at (202) 693-1648. OSHA does not require hard copies of documents transmitted by facsimile. However, if you have supplemental attachments that are not delivered by facsimile, you must submit those attachments, by the applicable deadline, to the OSHA Docket Office, Technical Data Center, OSHA, U.S. Department of Labor, 200 Constitution Avenue NW., Room N-2625, Washington, DC 20210. Any such attachment must clearly identify the sender's name, the date of submission, the title of the rulemaking (Clarification of Employer's Continuing Obligation to Make and Maintain an Accurate Record of Each Recordable Injury and Illness), and the docket number (OSHA-2015-0006) so that the docket Office can add the attachment(s) to the appropriate facsimile submission.

Regular or express mail, hand delivery, or messenger (courier) service. You may submit comments to the OSHA Docket Office, Docket Number OSHA-2015-0006, Technical Data Center, OSHA, U.S. Department of Labor, 200 Constitution Avenue NW., Room N-2625, Washington, DC 20210; telephone: (202) 693-2350. (OSHA's TTY number is (877) 889-5627). Please contact the OSHA Docket Office for information about Department of Labor security procedures that could affect the delivery of materials by express mail, hand delivery, and messenger or courier service. Also note that security-related procedures may delay the Agency's receipt of comments submitted by regular mail. The Docket Office will accept deliveries by hand, express mail, or messenger and courier service during the Docket Office's normal business hours, 8:15 a.m. to 4:45 p.m.

Instructions for submitting comments: All submissions must include the Agency's name (OSHA), the title of the rulemaking (Clarification of Employer's Continuing Obligation to Make and Maintain an Accurate Record of Each Recordable Injury and Illness), and the docket number (OSHA-2015-0006). OSHA will place comments and other material, including any personal information you provide, in the public docket without revision, and the comments and other materials will be available online at http://www.regulations.gov. Therefore, OSHA cautions you about submitting statements and information that you do not want made available to the public or that contain personal information (about yourself or others) such as Social Security numbers, birthdates, and medical data. For additional information on the rulemaking process, see the Background heading in the SUPPLEMENTARY INFORMATION part of this document.

Docket: To read or download comments or other material in the docket, go to Docket Number OSHA-20015-0006 at http://www.regulations.gov or to the OSHA Docket Office at the address provided previously. The electronic docket for this proposed rule, established at http://www.regulations.gov, lists all of the documents in the docket. However, some information (e.g., copyrighted material) is not publicly available to read or download through that Web site. All submissions, including copyrighted material, are available for inspection at the OSHA Docket Office. Contact the OSHA Docket Office for assistance in locating docket submissions.

FOR FURTHER INFORMATION CONTACT: General information and press inquiries: Contact Frank Meilinger, Director, Office of Communications, Room N-3647, OSHA, U.S. Department of Labor, 200 Constitution Avenue NW., Washington, DC 20210; telephone (202) 693-1999; email Meilinger.francis2@dol.gov. Technical inquiries: Contact William Perry, Directorate of Standards and Guidance, OSHA, U.S. Department of Labor, Room N-3718, 200 Constitution Avenue NW., Washington, DC 20210; telephone (202) 693-1950; email perry.bill@dol.gov.

Copies of this Federal Register notice and news releases: Electronic copies of these documents are available at OSHA's Web page at http://www.osha.gov.

SUPPLEMENTARY INFORMATION:

I. Background

OSHA published a notice of proposed rulemaking on July 15, 2015, titled “Clarification of Employer's Continuing Obligation To Make and Maintain an Accurate Record of Each Recordable Injury and Illness.” The notice stated that comments were due by September 28, 2015. The National Association of Home Builders requested that the deadline for submitting comments be extended by 60 days to provide additional time for interested parties to engage in “legal analysis, as well as careful review and discussion” of the proposed rule. See Ex. OSHA-2015-006-0004. OSHA believes an extension of 30 days is reasonable. Therefore, to allow commenters adequate time to prepare complete and accurate comments on the proposed rule, OSHA is, with this notice, extending the deadline for submitting comments in response to the proposed rule to October 28, 2015.

II. Authority and Signature

David Michaels, Ph.D., MPH, Assistant Secretary of Labor for Occupational Safety and Health, U.S. Department of Labor, 200 Constitution Avenue NW., Washington, DC 20210, authorized the preparation of this notice pursuant to 29 U.S.C. 657, 673; 5 U.S.C. 553; and Secretary of Labor's Order No. 1-2012 (77 FR 3912; January 25, 2012), and 29 CFR 1911.

Signed at Washington, DC, on September 21, 2015.
David Michaels,
Assistant Secretary of Labor for Occupational Safety and Health.

[FR Doc. 2015-24319 Filed 9-24-15; 8:45 am]

BILLING CODE 4510-26-P